DEPARTMENT OF JUSTICE

Federal Bureau of Prisons

Notice of Intent To Prepare a Draft Environmental Impact Statement (DEIS) for Housing Approximately 1,750 Low-Security, Adult Male Inmates, That Are Predominantly Criminal Aliens at a Privately-Owned and Operated Institution in Either Hinton, OK; McRae, GA; Baldwin, MI; or Scott County, MS

AGENCY: Federal Bureau of Prisons, U.S. Department of Justice.

ACTION: Notice of Intent to Prepare a Draft Environmental Impact Statement.

SUMMARY: Pursuant to Section 102(2)(c) of the National Environmental Policy Act (NEPA) of 1969, as implemented by the Council on Environmental Quality Regulations (40 Code of Federal Regulations [CFR] Parts 1500-1508), the Federal Bureau of Prisons (BOP) intends to prepare a Draft Environmental Impact Statement (DEIS) and conduct Public Scoping Meetings for the proposed housing of inmates under the Criminal Alien Requirement 12 (CAR 12) solicitation, at a facility located in either Hinton, Oklahoma; McRae, Georgia; Baldwin, Michigan; or Scott County, Mississippi.

SUPPLEMENTARY INFORMATION: The mission of the United States Department of Justice, BOP, is to protect society by confining offenders in the controlled environments of prison and community-based facilities that are safe, humane, cost-efficient, and appropriately secure, and that provide work and other self-improvement opportunities to assist offenders in becoming law-abiding citizens. The BOP accomplishes its mission through the appropriate use of community correction, detention, and correctional facilities that are either: Federally-owned and operated; federally-owned and non-federally operated; and non-federally owned and operated.

Proposed Action

The BOP is facing a period of growth in its inmate population. Projections show the federal inmate population increasing from approximately 212,000 inmates at the end of fiscal year 2010 to over 231,756 inmates by the end of fiscal year 2013. As such, the demand for bed space within the federal prison system continues to grow at a significant rate. To accommodate a portion of the growing inmate population, the BOP proposes to contract with a privately-owned and operated correctional facility that can house approximately 1,750 low-security, adult male inmates, that are predominantly criminal aliens.

Proposals received by the BOP from private contractors include existing facilities located in Hinton, Oklahoma; McRae, Georgia; Baldwin, Michigan; and a new facility proposed for development in Scott County, Mississippi. The BOP has preliminarily evaluated these proposals and determined that the prospective facility/sites appear to be of sufficient size to provide space for inmate housing, programs, administrative services and other support facilities associated with the correctional facility. The DEIS to be prepared by the BOP will analyze the potential impacts of correctional facility construction and/or operation at these locations.

The Process

In the process of evaluating the sites, several aspects will receive detailed examination including, but not limited to: Topography, geology/soils, hydrology, biological resources, utility services, transportation services, cultural resources, land uses, socio-economics, hazardous materials, and air and noise quality, among others.

Alternatives

In developing the DEIS, the options of “no action” and “alternative sites” for the proposed facility will be fully and thoroughly examined.

Scoping Process

During the preparation of the DEIS, there will be opportunities for public involvement in order to determine the issues to be examined in the DEIS. Four Scoping Meetings will be held for the proposed action: The first at 6 p.m., February 9, 2011 at the Hinton Fire Station, 115 E. Main Street, Hinton, Oklahoma; the second at 7 p.m., February 15, 2011 at the Morton City Board Room, 19 West 1st Avenue, Morton, Mississippi; the third at 6 p.m. February 17, 2011 at McRae City Hall, 301 N. 1st Avenue, McRae, Georgia; and the final at 6 p.m. on February 24, 2011 at Webber Township Hall, 2286 Spring Time Street in Baldwin, Michigan.

The meeting locations, dates, and times will be well publicized and will be arranged to allow for public involvement, as well as interested agencies and organizations to attend. The meetings will be held to allow interested persons to formally express their views on the scope and significant issues to be studied as part of the DEIS process. The meetings will provide for timely public comments and understanding of federal plans and programs with possible environmental consequences as required by the NEPA of 1969, as amended, and the National Historic Preservation Act of 1966, as amended.

DEIS Preparation

Public notice will be given concerning the availability of the DEIS for public review and comment at a later date.

Address

All are encouraged to provide comments on the proposed action and alternatives at the Public Scoping Meetings and anytime during the public scoping period and until March 11, 2011. There are three ways in which comments may be submitted: (1) By attending one of the scoping meetings, (2) by mail or (3) by FAX.

Contact

Questions concerning the proposed action and the DEIS may be directed to: Richard A. Cohn, Chief or Issac J. Gaston, Site Selection Specialist, Capacity Planning and Site Selection Branch, Federal Bureau of Prisons, 320 First Street, NW., Washington, DC 20534, Telephone: 202-514-6470/Facsimile: 202-616-6024/E-mail: racohn@bop.gov.

Dated: January 4, 2011.
Richard A. Cohn,
Chief, Capacity Planning and Site Selection Branch.

[FR Doc. 2011-294 Filed 1-20-11; 8:45 am]

BILLING CODE P